DEPARTMENT OF TRANSPORTATION

Federal Aviation Administration

Notice of Request To Release Property at the Central Kentucky Regional Airport, Richmond, KY (RGA)

AGENCY: Federal Aviation Administration (FAA), DOT.

ACTION: Notice.

SUMMARY: The Federal Aviation Administration is requesting public comment on a request by the Madison County Airport Board (MCAB) on behalf of the Central Kentucky Regional Airport, to release 8.373 acres of land “Tract T1” at the Central Kentucky Regional Airport from federal obligations.

DATES: Comments must be received on or before December 4, 2025.

ADDRESSES: Comments on this notice may be emailed to the FAA at the following email address: FAA/Memphis Airports District Office, Attn: Jamal R. Stovall, Lead Community Planner, Jamal.Stovall@faa.gov.

In addition, one copy of any comments submitted to the FAA must be mailed or delivered to Mr. George Wyatt, Chairman, Central Kentucky Regional Airport at the following address: 124 Madison Airport Rd., Richmond, KY 28364.

FOR FURTHER INFORMATION CONTACT: Jamal R. Stovall, Lead Community Planner, Federal Aviation Administration, Memphis Airports District Office, 2600, Thousand Oaks Boulevard, Suite 2250, Memphis, TN 38118-2482, Jamal.Stovall@faa.gov. The application may be reviewed in person at this same location, by appointment.

SUPPLEMENTARY INFORMATION: The FAA proposes to rule and invites public comment on the request to release property for disposal at the Central Kentucky Regional Airport (RGA), 124 Madison Airport Road Richmond, KY 40476, under the provisions of 49 U.S.C. 47107(h)(2). The FAA determined that the request to release property at the Central Kentucky Regional Airport (RGA) submitted by the Sponsor meets the procedural requirements of the Federal Aviation Administration and the release of this property does not and will not impact future aviation needs at the airport. The FAA may approve the request, in whole or in part, no sooner than thirty days after the publication of this notice.

The request consists of the following:

The MCAB has proposed to release “Tract T1” (8.373 acres). The property for release was acquired by the sponsor in 1975 by means of the Airport Development Aid Program (ADAP), now codified into law under Chapter 471 of Title 49 U.S.C. Tract T1 is recorded in the Madison County, KY Register of Deeds Book 283, Page 287. The 8.373 acres is to be released (disposal via sale) to provide a Right of Way acquisition by the Kentucky Transportation Cabinet, Department of Highways-Division of Right-of-Way and Utilities (KYTC) for the purposes of roadway development at the John Ballard Road and Madison Airport Road intersection. This action is taken under the provisions of 49 U.S.C. 47107(h)(2).

Any person may inspect the request in person at the FAA office listed above under FOR FURTHER INFORMATION CONTACT.

In addition, any person may, upon request, inspect the request, notice and other documents germane to the request in person at the Central Kentucky Regional Airport.

Issued in Memphis, Tennessee on October 30, 2025.
Rans Black,
Acting Manager, Memphis Airports District Office, Southern Region.

[FR Doc. 2025-19769 Filed 11-3-25; 8:45 am]

BILLING CODE 4910-13-P